SMALL BUSINESS ADMINISTRATION

[Declaration of Economic Injury Disaster #9M86]

State of Texas

Cameron County and the contiguous counties of Hidalgo and Willacy in the State of Texas constitute an economic injury disaster loan area as a result of the catastrophic collapse of the Queen Isabella Causeway on September 15, 2001. Eligible small businesses and small agricultural cooperatives without credit available elsewhere may file applications for economic injury assistance as a result of this disaster until the close of business on June 16, 2002 at the address listed below or other locally announced locations: U.S. Small Business Administration, Disaster Area 3 Office, 4400 Amon Carter Blvd., Suite 102, FT. Worth, TX 76155.

The interest rate for eligible small businesses and small agricultural cooperatives is 4 percent. The number assigned for economic injury for this disaster is 9M8600.

(Catalog of Federal Domestic Assistance Program No. 59002.)

Dated: September 26, 2001.
Hector V. Barreto,
Administrator.

[FR Doc. 01-24558 Filed 10-1-01; 8:45 am]

BILLING CODE 8025-01-P